Proclamation 8936 of February 28, 2013

Read Across America Day, 2013

By the President of the United States of America

A Proclamation

Today, people of all ages will mark Read Across America Day by celebrating stories that have shaped us. We take this opportunity to reflect on the transformative power of the written word and lift up literacy as a key to success in the 21st century.

We also take time to remember Theodor Seuss Geisel—better known as Dr. Seuss—whose works of humor and heart remind us that it is never too early to kindle a passion for reading. Books open the window to worlds of imagination, and the lessons they teach form the bedrock for a lifetime of learning. By encouraging reading at home and in school, parents, caregivers, and educators help set our children on the path to years of fulfillment and possibility. American progress depends on what we do for our students, so all of us must strive to empower the next generation with the tools they need to build a brighter future.

Great written works resonate with us. They challenge us. They reveal new insights about ourselves and the world we share. Today, as we celebrate the ways reading has enriched our lives, let us recommit to giving our sons and daughters the fullest opportunity to find inspiration on the printed page.

NOW, THEREFORE, I, BARACK OBAMA, President of the United States of America, by virtue of the authority vested in me by the Constitution and the laws of the United States, do hereby proclaim March 1, 2013, as Read Across America Day. I call upon children, families, educators, librarians, public officials, and all the people of the United States to observe this day with appropriate programs, ceremonies, and activities.

IN WITNESS WHEREOF, I have hereunto set my hand this twenty-eighth day of February, in the year of our Lord two thousand thirteen, and of the Independence of the United States of America the two hundred and thirty-seventh.

[FR Doc. 2013-05299

Filed 3-5-13; 8:45 am]

Billing code 3295-F3